RAILROAD RETIREMENT BOARD

Agency Forms Submitted for OMB Review

SUMMARY: In accordance with the Paperwork Reduction Act of 1995 (44 U.S.C. chapter 35), the Railroad Retirement Board (RRB) has submitted the following proposal(s) for the collection of information to the Office of Management and Budget for review and approval.

Summary of Proposal(s):

(1) Collection title: RUIA Investigations and Continuing Entitlement.

(2) Form(s) submitted: UI-9, UI-23, UI-44, ID-4F, ID-4U, ID-4X, ID-4Y, ID-20-1, ID-20-2, ID-20-4, ID-5I, ID-5R(SUP), ID-49R, UI-48.

(3) OMB Number: 3220-0025.

(4) Expiration date of current OMB clearance: 02/29/2004.

(5) Type of request: Extension of a currently approved collection.

(6) Respondents: Individuals or households, business or other for-profit, non-profit institutions, State, local or tribal government.

(7) Estimated annual number of respondents: 7,905.

(8) Total annual responses: 7,905.

(9) Total annual reporting hours: 1,622.

(10) Collection description: The information collection has two purposes. When RRB records that railroad service and/or compensation in insufficient to qualify a claimant for unemployment or sickness benefits, the RRB obtains information needed to reconcile the compensation and/or service on record with that claimed by the employee. Other forms in the collection allow the RRB to determine whether unemployment or sickness benefits were properly obtained.

FOR FURTHER INFORMATION CONTACT: Copies of the forms and supporting documents can be obtained from Charles Mierzwa, the agency clearance officer at (312) 751-3363 or Charles.Mierzwa@RRB.GOV.

Comments regarding the information collection should be addressed to Ronald J. Hodapp, Railroad Retirement Board, 844 North Rush Street, Chicago, Illinois, 60611-2092 or Ronald. Hodapp@RRB.GOV and to the OMB Desk Officer for the RRB, at the Office of Management and budget, Room 10230, New Executive Office Building, Washington, DC 20503.

Charles Mierzwa,
Clearance Officer.

[FR Doc. 04-397 Filed 1-8-04; 8:45 am]

BILLING CODE 7905-M